DEPARTMENT OF STATE

[Public Notice: 10267]

Notice of Availability of the Final Environmental Assessment and Finding of No Significant Impact for the Borrego Pipeline Presidential Permit Application, Webb County, Texas

AGENCY: Department of State.

ACTION: Notice of availability.

SUMMARY: The U.S. Department of State (Department) is advising the public that on January 3, 2018, the Department approved a Finding of No Significant Impact (FONSI) based on the Final Environmental Assessment (Final EA) for the Borrego Pipeline Presidential Permit Application.

DATES: The FONSI and Final EA are available as of the publication date of this notice at https://www.state.gov/e/enr/applicant/applicants/borregopipeline/c73505.htm.

ADDRESSES: Copies of the FONSI and Final EA are available at the following:

• Main Laredo Public Library, 1120 E. Calton Road, Laredo, Texas 78041

• https://www.state.gov/e/enr/applicant/applicants/borregopipeline/index.htm

Copies of the FONSI and Final EA may also be requested by email at BorregoReview@state.gov from: Borrego Project Manager, Office of Environmental Quality and Transboundary Issues (OES/EQT): Suite 2726, U.S. Department of State, 2201 C Street NW, Washington, DC 20520.

SUPPLEMENTARY INFORMATION: Executive Order (E.O.) 13337 delegates to the Secretary of State the President's authority to receive applications for permits for the construction, connection, operation, or maintenance of facilities for the exportation or importation of petroleum, petroleum products, coal, or other fuels (except for natural gas), at the borders of the United States, and to issue or deny such Presidential permits upon a national interest determination.

On August 12, 2016, Borrego submitted an application for a new Presidential permit that would authorize the construction, connection, operation, and maintenance of facilities at the U.S.-Mexico border for the export to Mexico of refined petroleum products (including gasoline, premium gasoline, ultra-low sulfur diesel, and jet fuel). The petroleum products would be transported through the new pipeline between a new terminal in Laredo, Texas, and the existing Nuevo Laredo Terminal in Tamaulipas, Mexico.

The Department prepared the Final EA consistent with the National Environmental Policy Act (NEPA) of 1969, as amended (42 U.S.C. Section 4321, et seq.), the regulations of the Council on Environmental Quality (CEQ) (40 CFR parts 1500-1508), and the Department's implementing regulations (22 CFR part 161). The Draft EA and Preliminary FONSI were available for a 30-day public review that ended on November 17, 2017. The Department has determined the proposed action would not result in significant impacts on the environment and therefore the preparation of an Environmental Impact Statement is not required. The FONSI is not a decision on the Presidential permit application. In accordance with E.O. 13337, the Secretary of State or his delegate will make a determination as to whether issuance of a Presidential permit for Borrego Crossing Pipeline, LLC (Borrego), a subsidiary of Howard Midstream Energy Partners, LLC, proposed cross-border pipeline facilities project would serve the national interest.

Robert Wing,
Acting Director, Office of Environmental Quality and Transboundary Issues, Department of State.

[FR Doc. 2018-00472 Filed 1-11-18; 8:45 am]

BILLING CODE 4710-09-P